Title 3—

The President

Proclamation 9107 of April 25, 2014

Workers Memorial Day, 2014

By the President of the United States of America

A Proclamation

America is built on the promise of opportunity. We believe that everyone should have a chance to succeed, that what matters is the strength of our work ethic, the scope of our dreams, and our willingness to take responsibility for ourselves and each other. Yet each year, workplace illness and injury threaten that promise for millions of Americans, and even more tragically, thousands die on the job. This is unacceptable. On Workers Memorial Day, we honor those we have lost, and in their memory, affirm everyone's right to a safe workplace.

With grit and determination, the American labor force has propelled our Nation through times of hardship and war, and it laid the foundation for tremendous economic growth. Workers risked life and limb to turn the gears of the Industrial Revolution, raise our first skyscrapers, and lay railroad track that connected our country from coast to coast. The injured, as well as families of the dead, received little or no compensation.

It was only after decades of organizing, unionizing, and public pressure that workers won many of the rights we take for granted today. Finally, with the Occupational Safety and Health Act of 1970, the Federal Government required employers to provide basic safety equipment. Just 1 year prior, the Federal Coal Mine Health and Safety Act of 1969 established comprehensive safety and health standards for coal mines, increased Federal enforcement powers, and provided compensation to miners with black lung.

My Administration remains dedicated to building on this progress. We are improving standards to protect workers from black lung and reduce their exposure to dangerous substances. We are helping employers provide safe workplaces and holding those who risk workers' lives and health accountable. And we are empowering workers with information so they can stay safe on the job.

We must never accept that injury, illness, or death is the cost of doing business. Workers are the backbone of our economy, and no one's prosperity should come at the expense of their safety. Today, let us celebrate our workers by upholding their basic right to clock out and return home at the end of each shift.

NOW, THEREFORE, I, BARACK OBAMA, President of the United States of America, by virtue of the authority vested in me by the Constitution and the laws of the United States, do hereby proclaim April 28, 2014, as Workers Memorial Day. I call upon all Americans to participate in ceremonies and activities in memory of those killed or injured due to unsafe working conditions.

IN WITNESS WHEREOF, I have hereunto set my hand this twenty-fifth day of April, in the year of our Lord two thousand fourteen, and of the Independence of the United States of America the two hundred and thirty-eighth.

[FR Doc. 2014-10055

Filed 4-29-14; 11:15 am]

Billing code 3295-F4